PEACE CORPS

Information Collection Request Under OMB Review

AGENCY: Peace Corps.

ACTION: Notice of submission to the Office of Management and Budget of a request for approval of information collection (OMB Control Number 0420-0005).

SUMMARY: Pursuant to the Paperwork Reduction Act of 1981 (44 U.S.C. Chapter 35), the Peace Corps has submitted to the Office of Management and budget a request for approval of information collection, OMB Control Number 0420-0005, PC-1502, the Volunteer Application Package. The initial Federal Register notice seeking public comment was published in 70 FR 39811 (July 11, 2005), also available at http://www.gpo.gov access, Wais.GPO. No comments, inquiries, or responses to that notice were received. A copy of the information collection may be obtained from Mr. Wilferdo Sauri, Peace Corps, Office of Volunteer Recruitment and Selection, 1111 20th Street, NW., Room 6112, Washington, DC 20526. Mr. Sauri can be contacted by telephone at (202) 692-1819 or 800-424-8580, ext 1819. Comments on the form should be addressed to the OMB reviewer, Mr. David Rostker, Peace Corps Desk Officer, Office of Information and Regulatory Affairs, Office of Management and Budget (202) 395-3897, Washington DC 20503, and to Mr. Sauri at the address listed above. For general information about the Peace Corps, visit our Web site at http://www.peacecorps.gov.

Peace Corps invites comment on whether the proposed collection of information is necessary for proper performance of the functions of the Peace Corps, including whether their information will have practical use; the accuracy of the agency's estimate of the burden of the proposed collections information, including the validity of the methodology and assumptions used; ways to enhance the quality, utility and the clarity of the information to be collected; and ways to minimize the burden of the collection of information on those who respond, including through the use of automated collection techniques, when appropriate, and other forms of information technology. Comments should be received on or before October 24, 2005.

Information Collection Abstract

Title: Peace Corps Volunteer Application, PC-1502 form number.

Need and Uses: The Volunteer Application must be completed by applicants to the Peace Corps and is used by staff in the Peace Corps' volunteer Recruitment and Selection office to determine candidate eligibility and suitability for Peace Corps service. Applicants complete the volunteer application either online or via paper. The information is used initially to determine which applicants should be interviewed and which should be nominated. Following nomination, information on the volunteer application is used by Peace Corps staff in the Office of Placement to make a suitability determination and to determine the specific assignment area and country of service for the applicant.

Respondents: Potential Peace Corps Volunteers.

Respondent's Obligation To Reply: Required for application for Peace Corps service.

Burden On The Public:

a. Annual reporting burden: 39,000 hours.

b. Annual record keeping burden: 0 hours.

c. Estimated average burden per response: 3 hours.

d. Frequency of response: One time.

e. Estimated number of likely respondents: 13,000.

f. Estimated cost to respondents: 0

This notice is issued in Washington, DC on September 23, 2005.

Dated: September 15, 2005.
Gilbert Smith,
Associate Director for Management.

[FR Doc. 05-19022 Filed 9-22-05; 8:45 am]

BILLING CODE 6051-01-M